DEPARTMENT OF DEFENSE

Department of the Navy

[Docket ID USN-2016-HQ-0002]

Privacy Act of 1974; System of Records

AGENCY: Department of the Navy, DoD.

ACTION: Notice to alter a system of records.

SUMMARY: The Department of the Navy proposes to alter a system of records notice N05350-1, entitled “Navy Drug and Alcohol Program System.” This system is used to train, educate, identify, screen, counsel, rehabilitate, and monitor the progress of individuals in drug and alcohol abuse programs. Information is used to screen and evaluate the certified counselors, counselor interns, and counselor applicants throughout the course of their duties.

DATES: Comments will be accepted on or before March 17, 2016. This proposed action will be effective on the date following the end of the comment period unless comments are received which result in a contrary determination.

ADDRESSES: You may submit comments, identified by docket number and title, by any of the following methods:

• Federal Rulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Head, PA/FOIA Office (DNS-36), Department of the Navy, 2000 Navy Pentagon, Washington, DC 20350-2000, or by phone at (202) 685-6545.

SUPPLEMENTARY INFORMATION: The Department of the Navy's notices for systems of records subject to the Privacy Act of 1974 (5 U.S.C. 552a), as amended, have been published in the Federal Register and are available from the address in the FOR FURTHER INFORMATION CONTACT or from the Defense Privacy and Civil Liberties Division Web site at http://dpcld.defense.gov/.

The proposed systems reports, as required by 5 U.S.C. 552a(r) of the Privacy Act, as amended, were submitted on February 8, 2016, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: February 9, 2016.
Aaron Siegel,
Alternate OSD Federal Register Liaison Officer, Department of Defense.

N05350-1

System name:

Navy Drug and Alcohol Program System (December 14, 2010, 75 FR 77855).

Changes:

* * * * *

SORN ID:

Delete entry and replace with “NM05353-1”.

* * * * *

System location:

Delete entry and replace with “Primary location 21st Century Sailor Office (OPNAV N17), 5720 Integrity Drive, Millington, TN 38055-6000.

Decentralized locations:

Navy Alcohol Rehabilitation Centers, Navy Alcohol Rehabilitation Departments in Naval Hospitals, Counseling and Assistance Centers, Personal Responsibility and Values Education and Training Program (Prevent) Offices, Navy Drug Screening Laboratories, and local activities to which an individual is assigned. Addresses are contained in a directory which is available from the Director, Navy Alcohol and Drug Prevention (OPNAV N170A), 5720 Integrity Drive, Millington, TN 38055-6000.”

Categories of individuals covered by the system:

Delete entry and replace with “Navy and Marine personnel (officers and enlisted) and reserve personnel, who have been identified as drug or alcohol abusers and who are subsequently screened or referred for remedial education, outpatient counseling, or residential rehabilitation; counselors, counselor interns, and counselor applicants; Navy personnel who attend the drug and alcohol preventive education and training; Marine personnel who attend Prime for Life Program for preventive education and training; officer and enlisted members of facilities providing drug and alcohol education, screening, counseling, rehabilitation, and drug testing.”

Categories of records in the system:

Delete entry and replace with “Documentation containing full name, Social Security Number (SSN) or DoD ID Number, rate/rank, military status, demographic data, screening and assessment information, medical and laboratory data, results of active and reserve members' urinalysis and hair testing, narrative summaries of treatment, aftercare plans, and other information pertaining to a member's participation in substance abuse education and training, counseling, and rehabilitation programs.”

Authority for maintenance of the system:

Delete entry and replace with “10 U.S.C. 1090, Identifying and treating drug and alcohol dependence; 10 U.S.C. 5013, Secretary of the Navy; 10 U.S.C. 5041, Headquarters, Marine Corps; 42 U.S.C. 290dd-2, Confidentiality of records; DoD 6025.18-R, DoD Health Information Privacy Regulation; and E.O. 9397 (SSN), as amended.”

* * * * *

Routine uses of records maintained in the system, including categories of users and the purposes of such uses:

Delete entry and replace with “In addition to those disclosures generally permitted under 5 U.S.C. 552a(b) of the Privacy Act of 1974, as amended, the records contained therein may specifically be disclosed outside the DoD as a routine use pursuant to 5 U.S.C. 552a(b)(3) as follows:

In order to comply with the provisions of 42 U.S.C. 290dd-2, the Department of Defense (DoD) blanket routine uses do not apply to this system of records.

Specifically, records of the identity, diagnosis, prognosis, or treatment of any client/patient, irrespective of whether or when he/she ceases to be client/patient, maintained in connection with the performance of any alcohol or drug abuse, education, training, treatment, rehabilitation, or research which is conducted, regulated, or directly or indirectly assisted by any department or agency of the United States, shall, except as provided therein, be confidential and be disclosed only for the purposes and under the circumstances expressly authorized in 42 U.S.C. 290dd-2. This statute takes precedence over the Privacy Act of 1974, as amended, in regard to accessibility of such records, except to the individual to whom the record pertains.

The content of any record may be disclosed in accordance with prior written consent of the patient with respect to whom such record is maintained, but only to such extent, under such circumstances, and for purposes as may be allowed under such prescribed regulations.

Information from records may be released without the member's consent in the following situations:

To medical personnel to the extent necessary to meet a bona fide medical emergency.

To qualified personnel for the purpose of conducting scientific research, management audits, or program evaluation, but such personnel may not identify, directly or indirectly, any individual patient in any report of such research, audit or evaluation, or otherwise disclose patient identities in any manner.

If authorized by an appropriate order of a court of competent jurisdiction granted after application showing good case therefore. In accessing good cause, the court shall weigh the public interest and the need for disclosure against the injury to the patient, to the physician patient relationship, and to the treatment services. Upon the granting of such order, the court, in determining the extent to which any disclosure of all or any part of any record is necessary, shall impose appropriate safeguards against unauthorized disclosures.

The above prohibitions do not apply to any interchange of records within the Armed Forces or within those components of the Department of Veterans Affairs furnishing health care to veterans or between such components and the Armed Forces.

Note: This system of records contains Individually Identifiable Health Information. The DoD Health Information Privacy Regulation (DoD 6025.18-R) issued pursuant to the Health Insurance Portability and Accountability Act of 1996, applies to most such health information. DoD 6025-18-R may place additional procedural requirements on the uses and disclosures of such information beyond those found in the Privacy Act of 1974 or mentioned in this system of records notice.”

* * * * *

Storage:

Delete entry and replace with “Electronic storage media.”

Retrievability:

Delete entry and replace with “Name and SSN or DoD ID Number.”

Safeguards:

Delete entry and replace with “Computer facilities are located in restricted areas accessible only to authorized persons that are properly screened, cleared, and trained. Access to Computerized data is restricted by Common Access Card (CAC).”

Retention and disposal:

Delete entry and replace with “All electronic records are permanent and are archived within the Alcohol and Drug Management Information System.”

System manager(s) and address:

Delete entry and replace with “Director, Navy Alcohol and Drug Prevention Office (OPNAV N170A), 5720 Integrity Drive, Millington, TN 38055-6000.”

Notification procedure:

Delete entry and replace with “Individuals seeking to determine whether information about themselves is contained in this system should address written inquiries to the Director, Navy Alcohol and Drug Prevention Office (OPNAV N170A), 5720 Integrity Drive, Millington, TN 38055-6000 or to the naval activity providing treatment.

Addresses are contained in a directory which is available from the Director, Navy Alcohol and Drug Prevention Office (OPNAV N170A), 5720 Integrity Drive, Millington, TN 38055-6000.

Requests should contain full name, SSN or DoD ID Number, rank/rate, military status, and signature of the requester. The system manager may require an original signature or a notarized signature as a means of proving the identity of the individual.”

Record access procedures:

Delete entry and replace with “Individuals seeking access to information about themselves contained in this system should address written inquiries to the Director, Navy Alcohol and Drug Prevention Office (OPNAV N170A), 5720 Integrity Drive, Millington, TN 38055-6000 or to the naval activity providing treatment.

Addresses are contained in a directory which is available from the Director, Navy Alcohol and Drug Prevention Office (OPNAV N170A), 5720 Integrity Drive, Millington, TN 38055-6000.

The letter should contain full name, SSN or DoD ID Number, rank/rate, military status, and signature of the requester. The system manager may require an original signature or a notarized signature as a means of proving the identity of the individual requesting access to the records.”

* * * * *

[FR Doc. 2016-02946 Filed 2-12-16; 8:45 am]

BILLING CODE 5001-06-P